COMMISSION ON CIVIL RIGHTS

Sunshine Act Notice

AGENCY: United States Commission on Civil Rights.

ACTION: Notice of Business Meeting.

DATE AND TIME: Friday, August 16, 2013; 9:30 a.m. EST.

PLACE: 1331 Pennsylvania Ave NW., Suite 1150, Washington, DC 20425.

Meeting Agenda

I. Approval of Agenda

II. Program Planning

• Vote to Approve and Adopt the Final Draft of the “Civil Rights Implications of Eminent Domain Abuse” report

• Vote to Approve and Adopt the Final Draft of the “Assessing the Impact of Criminal Background Checks and the Equal Employment Opportunity Commission's Conviction Records Policy” report.

• Discussion & Vote on 2014 USCCR Business Meeting Calendar

• Discussion & Action on 2014 Statutory Enforcement Report topic

• Discussion on Submission of Statements & Rebuttals for Commission Reports

III. Management and Operations

• Staff Director's report

IV. Approval of State Advisory Committee Appointment Slates

• Maine

• Mississippi

• Rhode Island

• Tennessee

• Washington

• West Virginia

V. Adjourn Meeting

Contact Person For Further Information: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: August 5, 2013.
David Mussatt,
Acting RPCU Chief.

[FR Doc. 2013-19235 Filed 8-5-13; 4:15 pm]

BILLING CODE 6335-01-P